DEPARTMENT OF DEFENSE

Office of the Secretary

[Transmittal Nos. 13-18]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-18 with attached transmittal, policy justification, and Sensitivity of Technology.

Dated: January 30, 2014.
Aaron Siegel,
Alternate OSD Federal Register Liaison Officer, Department of Defense.

Transmittal No. 13-18

Notice of Proposed Issuance of Letter of Offer Pursuant to Section 36(b)(1) of the Arms Export Control Act, as amended

(i) Prospective Purchaser: Iraq

(ii) Total Estimated Value:

Major Defense Equipment | $1.9 billion
Other | $2.9 billion
TOTAL | $4.8 billion

(iii) Description and Quantity or Quantities of Articles or Services under Consideration for Purchase: 24 AH-64E APACHE LONGBOW Attack Helicopters, 56 T700-GE-701D Engines, 27 AN/ASQ-170 Modernized Target Acquisition and Designation Sight, 27 AN/AAR-11 Modernized Pilot Night Vision Sensors, 12 AN/APG-78 Fire Control Radars with Radar Electronics Unit (LONGBOW component), 28 AN/AAR-57(V)7 Common Missile Warning Systems, 28 AN/AVR-2B Laser Detecting Sets, 28 AN/APR-39A(V)4 or APR-39C(V)2 Radar Signal Detecting Sets, 28 AN/ALQ-136A(V)5 Radar Jammers, 52 AN/AVS-6, 90 Apache Aviator Integrated Helmets, 60 HELLFIRE Missile Launchers, and 480 AGM-114R HELLFIRE Missiles. Also included are AN/APR-48 Modernized Radar Frequency Interferometers, AN/APX-117 Identification Friend-or-Foe Transponders, Embedded Global Positioning Systems with Inertial Navigation with Multi Mode Receiver, MXF-4027 UHF/VHF Radios, 30mm Automatic Chain Guns, Aircraft Ground Power Units, 2.75 in Hydra Rockets, 30mm rounds, M211 and M212 Advanced Infrared Countermeasure Munitions flares, spare and repair parts, support equipment, publications and technical data, personnel training and training equipment, site surveys, U.S. government and contractor engineering, technical, and logistics support services, design and construction, and other related elements of logistics support.

(iv) Military Department: U.S. Army (WAQ)

(v) Prior Related Cases, if any: None

(vi) Sales Commission, Fee, etc., Paid, Offered or Agreed to be Paid: None

(vii) Sensitivity of Technology Contained in the Defense Article or Defense

Services Proposed to be Sold: See Annex attached

(viii) Date Report Delivered to Congress: 27 January 2014

* as defined in Section 47(6) of the Arms Export Control Act.

POLICY JUSTIFICATION

Iraq—AH-64E APACHE LONGBOW Attack Helicopters

The Government of Iraq has requested a possible sale of 24 AH-64E APACHE LONGBOW Attack Helicopters, 56 T700-GE-701D Engines, 27 AN/ASQ-170 Modernized Target Acquisition and Designation Sight, 27 AN/AAR-11 Modernized Pilot Night Vision Sensors, 12 AN/APG-78 Fire Control Radars with Radar Electronics Unit (LONGBOW component), 28 AN/AAR-57(V)7 Common Missile Warning Systems, 28 AN/AVR-2B Laser Detecting Sets, 28 AN/APR-39A(V)4 or APR-39C(V)2 Radar Signal Detecting Sets, 28 AN/ALQ-136A(V)5 Radar Jammers, 52 AN/AVS-6, 90 Apache Aviator Integrated Helmets, 60 HELLFIRE Missile Launchers, and 480 AGM-114R HELLFIRE Missiles. Also included are AN/APR-48 Modernized Radar Frequency Interferometers, AN/APX-117 Identification Friend-or-Foe Transponders, Embedded Global Positioning Systems with Inertial Navigation with Multi Mode Receiver, MXF-4027 UHF/VHF Radios, 30mm Automatic Chain Guns, Aircraft Ground Power Units, 2.75 in Hydra Rockets, 30mm rounds, M211 and M212 Advanced Infrared Countermeasure Munitions flares, spare and repair parts, support equipment, publications and technical data, personnel training and training equipment, site surveys, U.S. government and contractor engineering, technical, and logistics support services, design and construction, and other related elements of logistics support. The estimated cost is $4.8 billion.

This proposed sale will contribute to the foreign policy and national security of the United States by helping to improve the security of a strategic partner. This proposed sale directly supports the Iraq government and serves the interests of the Iraqi people and the United States.

This proposed sale supports the strategic interests of the United States by providing Iraq with a critical capability to protect itself from terrorist and conventional threats, to enhance the protection of key oil infrastructure and platforms, and to reinforce Iraqi sovereignty. This proposed sale of AH-64E APACHE helicopters will support Iraq's efforts to establish a fleet of multi-mission attack helicopters capable of meeting its requirements for close air support, armed reconnaissance and anti-tank warfare missions.

The proposed sale of this equipment and support will not alter the basic military balance in the region.

The prime contractors will be The Boeing Company in Mesa, Arizona; Lockheed Martin Corporation in Orlando, Florida; General Electric Company in Cincinnati, Ohio; Lockheed Martin Mission Systems and Sensors in Owego, New York; Longbow Limited Liability Corporation in Orlando, Florida; and Raytheon Corporation in Tucson, Arizona. There are no known offset agreements proposed in connection with this potential sale.

Implementation of this proposed sale will require the assignment of three U.S. Government and two hundred contractor representatives to Iraq to support delivery of the Apache helicopters and provide support and equipment familiarization. In addition, Iraq has expressed an interest in a Technical Assistance Fielding Team for in-country pilot and maintenance training. To support the requirement a team of 12 personnel (one military team leader and 11 contractors) would be deployed to Iraq for approximately three years. Also, this program will require multiple trips involving U.S. Government and contractor personnel to participate in program and technical reviews, training and installation.

There will be no adverse impact on U.S. defense readiness as a result of this proposed sale.

Transmittal No. 13-18

Notice of Proposed Issuance of Letter of Offer Pursuant to Section 36(b)(1) of the Arms Export Control Act

Annex

Item No. vii

(vii) Sensitivity of Technology:

1. The AH-64E APACHE Attack Helicopter weapon system contains communications and target identification equipment, navigation equipment, aircraft survivability equipment, displays, and sensors. The airframe itself does not contain sensitive technology; however, the pertinent equipment listed below will be either installed on the aircraft or included in the sale:

a. The AN/APG-78 Fire Control Radar (FCR) is an active, low-probability of intercept, millimeter-wave radar, combined with a passive AN/APR-48A Modernized Radar Frequency Interferometer (M-RFI) mounted on top of the helicopter mast. The FCR Ground Targeting Mode detects, locates, classifies and prioritizes stationary or moving armored vehicles, tanks and mobile air defense systems as well as hovering helicopters as well as helicopters and fixed wing aircraft in normal flight. The M-RFI detects threat radar emissions and determines the type of radar and mode of operation. The FCR data and M-RFI data are fused for maximum synergism. The content of these items are classified Secret.

b. The AN/ASQ-170 Modernized Target Acquisition and Designation Sight/AN/AAQ-11 Modernized Pilot Night Vision Sensor (MTADS/MPNVS) provides day, night, limited adverse weather target information, as well as night navigation capabilities. The MPNVS provides thermal imaging that permits nap-of-the-earth flight to, from, and within the battle area, while MTADS provides the co-pilot gunner with search, detection, recognition, and designation by means of television and Forward Looking Infrared (FLIR) sighting systems that may be used singularly or in combinations. Hardware is Unclassified. Technical manuals for authorized maintenance levels are Unclassified.

c. The AAR-57(V)7 Common Missile Warning System (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). The ECU hardware is classified Confidential; releasable technical manuals for operation and maintenance are classified Secret.

d. The AN/APR-39A(V)4/APR-39C(V)2 Radar Signal Detecting Set provides warning of a radar directed air defense threat and allow appropriate countermeasures. This is the 1553 databus compatible configuration. The hardware is classified Confidential when programmed with U.S. threat data; releasable technical manuals for operation and maintenance are classified Confidential; releasable technical data (technical performance) is classified Secret.

e. The AN/AVR-2B Laser Detecting Set is a passive laser warning system that receives, processes and displays threat information resulting from aircraft illumination by lasers on the multi-functional display. The hardware is classified Confidential; releasable technical manuals for operation and maintenance are classified Secret.

f. The AN/ALQ-136A(V)5 Radar Jammer, or equivalent, is an automatic radar jammer that analyzes various incoming radar signals. When threat signals are identified and verified, jamming automatically begins and continues until the threat radar breaks lock. The hardware is classified Confidential; releasable technical manuals for operation and maintenance are classified Secret; releasable technical data (technical performance) is classified Secret.

g. The highest level for release of the AGM-114R HELLFIRE II missile is Secret, based upon the software. The highest level of classified information that could be disclosed by a proposed sale or by testing of the end item is Secret; the highest level that must be disclosed for production, maintenance, or training is Confidential. Reverse engineering could reveal Confidential information. Vulnerability data, countermeasures, vulnerability/susceptibility analyses, and threat definitions are classified Secret or Confidential.

2. If a technologically advanced adversary were to obtain knowledge of the specific hardware and software elements, the information could be used to develop countermeasures which might reduce weapon system effectiveness or be used in the development of a system with similar or advanced capabilities.

[FR Doc. 2014-02265 Filed 2-3-14; 8:45 am]

BILLING CODE 5001-06-P